DEPARTMENT OF TRANSPORTATION

Federal Aviation Administration

14 CFR Part 71

[Docket No. FAA-2021-0557; Airspace Docket No. 21-AWP-2]

RIN 2120-AA66

Establishment of Class E Airspace; Rogers Field, CA

AGENCY: Federal Aviation Administration (FAA), DOT.

ACTION: Final rule.

SUMMARY: This action establishes Class E airspace extending upward from 700 feet above the surface of the earth at Rogers Field, Chester, CA. This action would accommodate a new area navigation (RNAV) procedure and ensure the safety and management of instrument flight rule (IFR) operations within the National Airspace System.

DATES: Effective 0901 UTC, March 24, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov//air_traffic/publications/. For further information, you can contact the Airspace Policy Group, Federal Aviation Administration, 800 Independence Avenue SW, Washington, DC 20591; telephone: (202) 267-8783. FAA Order JO 7400.11F is also available for inspection at the National Archives and Records Administration (NARA). For information on the availability of FAA Order JO 7400.11F at NARA, email fr.inspection@nara.gov or go to https://www.archives.gov/federal-register/cfr/ibr-locations.html.

FOR FURTHER INFORMATION CONTACT: Richard Roberts, Federal Aviation Administration, Western Service Center, Operations Support Group, 2200 S 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, part A, Subpart I, Section 40103. Under that section, the FAA is charged with prescribing regulations to assign the use of airspace necessary to ensure the safety of aircraft and the efficient use of airspace. This regulation is within the scope of that authority as it would establish Class E airspace extending upward from 700 feet above ground level to support IFR operations at Rogers Field, Chester, CA.

History

The FAA published a notice of proposed rulemaking in the Federal Register (86 FR 43456; August 9, 2021) for Docket No. FAA-2021-0557 to establish Class E airspace at Rogers Field, Chester, CA. Interested parties were invited to participate in this rulemaking effort by submitting written comments on the proposal to the FAA. One comment in support of the action was received.

Class E airspace designations are published in paragraphs 6005 of FAA Order JO 7400.11F, dated August 10, 2021, and effective September 15, 2021, which is incorporated by reference in 14 CFR 71.1. The Class E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

The FAA is amending 14 CFR part 71 by establishing Class E airspace extending upward from 700 feet above the surface of the earth at Rogers Field, Chester, CA.

The Class E airspace will be established extending upward from 700 feet above ground level (AGL) within a 4-mile radius of the airport. In addition, airspace extending upward from 700 feet AGL will be established within an area 2 miles each side of the approach course to runway 34, extending 3.3 miles south from the 4-mile radius parallel to the extended center line of runway 16, then proceeding southeast 7 miles on a course of 131°. This will form a dog leg that provides controlled airspace for aircraft as they descend below 1500 feet AGL on approach to runway 34. The airspace extending upward from 700 feet AGL will also include an area 2 miles each side of the 330° bearing from the airport extending from the 4-mile radius northwest to 5.5 miles from the airport. This area will provide controlled airspace for the departure and missed approach procedures.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6005 Class E Airspace Areas Extending Upward From 700 Feet or More Above the Surface of the Earth.

* * * * *

AWP CA E5 Chester, CA [NEW]

Rogers Field Airport, CA

(Lat. 40°16′57″ N, long. 121°14′28″ W)

That airspace extending upward from 700 feet within a 4-mile radius of the airport and that area bounded by a line beginning at the point the 202° bearing intersects the 4-mile radius to lat. 40°08′35.96″ N, long. 121°15′41.59″ W; to lat. 40°3′58.22″ N, long. 121°08′45.53″ W; to lat. 40°07′0.09″ N, long. 121°05′18.56″ W; to lat. 40°10′9.68″ N, long. 121°9′57.89″ W; to lat. 40°11′32.19″ N, long. 121°10′51.97″ W; to the point the 144° bearing intersects the 4-mile radius thence clockwise along the 4-mile radius to the point of beginning, and that airspace 2 miles each side of the 330° bearing extending from the 4-mile radius to 5.5 miles northwest of the airport.

Issued in Des Moines, Washington, on November 30, 2021.
B.G. Chew,
Acting Group Manager, Operations Support Group, Western Service Center.

[FR Doc. 2021-26481 Filed 12-7-21; 8:45 am]

BILLING CODE 4910-13-P